DEPARTMENT OF AGRICULTURE

Agricultural Marketing Service

7 CFR Part 1206

[Document Number AMS-SC-19-0108]

Mango Promotion, Research and Information Order; Continuance Referendum

AGENCY: Agricultural Marketing Service.

ACTION: Notification of referendum.

SUMMARY: This document directs that a referendum be conducted among eligible first handlers and importers of mangos to determine whether they favor continuance of the Agricultural Marketing Service's (AMS) regulations regarding a national mango research and promotion program and whether frozen mangos continue to be covered under the program.

DATES: The referendum will be conducted from September 21, 2020 through October 9, 2020. Ballots delivered to AMS via express mail or electronic means must show proof of delivery no later than 11:59 p.m. Eastern Time (ET) on October 9, 2020.

ADDRESSES: Copies of the Mango Promotion, Research and Information Order (Order) may be obtained from: Referendum Agent, Promotion and Economics Division (PED), Specialty Crops Program (SCP), AMS, USDA, Stop 0244, Room 1406-S, 1400 Independence Avenue SW, Washington, DC 20250-0244; telephone: (202) 720-9915, facsimile: (202) 205-2800.

FOR FURTHER INFORMATION CONTACT: Marlene Betts, Marketing Specialist, PED, SCP, AMS, USDA, Stop 0244, Room 1406-S, 1400 Independence Avenue SW, Washington, DC 20250-0244; telephone: (202) 720-5057, or electronic mail: Marlene.Betts@usda.gov.

SUPPLEMENTARY INFORMATION: Pursuant to the Commodity Promotion, Research and Information Act of 1996 (7 U.S.C. 7411-7425) (1996 Act), it is hereby directed that a referendum be conducted to: (1) Ascertain whether the continuance of the Order is favored by eligible first handlers and importers covered under the program, and (2) ascertain whether the continuance of frozen mangos as a covered commodity in the Order is favored by eligible first handlers and importers (including frozen mango importers) covered under the program.

The second question is being included on the ballot because the Order was amended on February 21, 2019 (84 FR 5335) to add frozen mangos as a covered commodity. Therefore, importers of frozen mangos are currently paying an assessment of one cent ($0.01) per pound on frozen mangos. In addition, the National Mango Board membership was expanded from 18 to 21 with the addition of two seats for importers of frozen mangos and one seat for a foreign processor. The Department has determined that it is appropriate to conduct a referendum with two separate questions on the ballot in order to determine whether frozen mangos should continue as a covered commodity under the Order and whether first handlers and importers favor the continuation of the Order.

The representative period for establishing voter eligibility for the referendum shall be the period from January 1 through December 31, 2019. Frozen importers began to be assessed under the Order on July 22, 2019, and therefore are eligible to vote since they imported during the representative period. First handlers who received 500,000 or more pounds of fresh mangos from producers and importers who imported 500,000 or more pounds of fresh mangos or 200,000 or more pounds of frozen mangos into the United States during the representative period are eligible to vote. Persons who received an exemption from assessments pursuant to §§ 1206.43 and 1206.202 for the entire representative period are ineligible to vote. The Department will provide the option for electronic ballots. The referendum shall be conducted by express mail and electronic ballot from September 21, through October 9, 2020. Further details will be provided in the ballot instructions.

Section 518(d) of the Act (7 U.S.C. 7417) authorizes continuance referenda. Under § 1206.71(b) of the Order, the Department must conduct a referendum every five years to determine whether first handlers and importers of mangos favor the continuation of the Order.

The Department will determine the results of the two referendum questions separately. The Department would continue the program if continuance is favored by a majority of first handlers and importers voting in the referendum. In addition, the Department would retain the provisions of the Order that added frozen mangos to the program and increased the size of the Board if favored by a majority of fresh first handlers and importers and frozen importers voting in the referendum. The provisions would also be retained if favored by a majority of frozen importers voting in the referendum. If not favored, the Department would conduct rulemaking to remove these provisions from the Order.

In accordance with the Paperwork Reduction Act of 1995 (44 U.S.C. chapter 35), the referendum ballot has been approved by the Office of Management and Budget (OMB) and assigned OMB No. 0581-0093. Based on assessment and Customs data, it has been estimated that there are approximately 5 first handlers and 100 importers of fresh mangos and 70 importers of frozen mangos who will be eligible to vote in the referendum. It will take an average of 15 minutes for each voter to read the voting instructions and complete the referendum ballot.

Referendum Order

Marlene Betts, Marketing Specialist and Heather Pichelman, Director, Promotion and Economics Division, SCP, AMS, USDA, Stop 0244, Room 1406-S, 1400 Independence Avenue SW, Washington, DC 20250-0244, are designated as the referendum agents to conduct this referendum. The referendum procedures at 7 CFR 1206.100 through 1206.108, which were issued pursuant to the 1996 Act, shall be used to conduct the referendum.

The referendum agents will distribute the ballots to be cast in the referendum and voting instructions to all known eligible first handlers who received 500,000 or more pounds of fresh mangos from producers and to importers who imported 500,000 or more pounds of fresh mangos or 200,000 or more of frozen mangos into the United States during the representative period, prior to the first day of the voting period. Persons who first handled or imported mangos during the representative period are eligible to vote. Persons who received an exemption from assessments pursuant to §§ 1206.43 and 1206.202 during the entire representative period are ineligible to vote. Any eligible first handler or importer who does not receive a ballot should contact a referendum agent no later than three days before the end of the voting period. Ballots delivered via express mail or electronic means must show proof of delivery no later than 11:59 p.m. Eastern Time (ET) on October 9, 2020.

List of Subjects in 7 CFR Part 1206

Administrative practice and procedure, Advertising, Consumer information, Mango promotion, Marketing agreements, Reporting and recordkeeping requirements.

Authority: 7 U.S.C. 7411-7425 and 7 U.S.C. 7401.

Bruce Summers,
Administrator.

[FR Doc. 2020-16295 Filed 8-17-20; 8:45 am]

BILLING CODE 3410-02-P